DEPARTMENT OF TRANSPORTATION

Federal Aviation Administration

14 CFR Part 39

[Docket No. FAA-2006-26075; Directorate Identifier 2006-CE-55-AD; Amendment 39-15025; AD 2007-08-08]

RIN 2120-AA64

Airworthiness Directives; Raytheon Aircraft Company (The Beech Aircraft Company and BEECH previously held Type Certificate Nos. 3A15, 3A16, 5A3, and A-777) Models 35-33, 35-A33, 35-B33, 35-C33, E33, F33, G33, 35-C33A, E33A, F33A, E33C, F33C, 35, A35, B35, C35, D35, E35, F35, G35, H35, J35, K35, M35, N35, P35, S35, V35, V35A, V35B, 36, A36, A45 (T-34A, B45), D45 (T-34B), 95-55, 95-A55, 95-B55, 95-B55A, 95-B55B (T-42A), 95-C55, 95-C55A, D55, D55A, E55, E55A, 56TC, A56TC, 58, 95, B95, B95A, D95A, and E95 Airplanes

AGENCY: Federal Aviation Administration (FAA), DOT.

ACTION: Final rule.

SUMMARY: We are adopting a new airworthiness directive (AD) that supersedes AD 72-22-01, which applies to certain Raytheon Aircraft Company (RAC) (The Beech Aircraft Company and BEECH previously held Type Certificate Nos. 3A15, 3A16, 5A3, and A-777) Models 33, 35, 36, 45, and 95 series airplanes. AD 72-22-01 currently requires you to determine if each uplock roller is of the greasible type (one having a drilled and grooved inner race), replace any nongreasible uplock roller (one having a solid inner race) with the greasible type before further flight, install hollow zerk-ended mounting bolts on the uplock rollers, and repetitively lubricate the uplock mechanism. Since we issued AD 72-22-01, there was a recent incident involving a RAC Model 95-B55B (T-42A) airplane where a seizure of the uplock rollers occurred. This malfunction of the uplock rollers is addressed in AD 72-22-01. Thus, the FAA has determined that the actions of AD 72-22-01 should also apply to certain serial numbers of the Model 95-B55B (T-42A) airplanes. Consequently, this AD retains all the actions of AD 72-22-01, adds those Model 95-B55B (T-42A) airplanes to the applicability of this AD, and lists the specific serial numbers. We are issuing this AD to decrease the possibility of gear-up landings caused by seizure of the uplock rollers.

DATES: This AD becomes effective on May 25, 2007.

On May 25, 2007 the Director of the Federal Register approved the incorporation by reference of certain publications listed in this AD.

ADDRESSES: To get the service information identified in this AD, contact Raytheon Aircraft Company, P.O. Box 85, Wichita, Kansas 67201-0085; telephone: (800) 429-5372 or (316) 676-3140. To view the AD docket, go to the Docket Management Facility; U.S. Department of Transportation, 400 Seventh Street, SW., Nassif Building, Room PL-401, Washington, DC 20590-001 or on the Internet at http://dms.dot.gov. The docket number is FAA-2006-26075; Directorate Identifier 2006-CE-55-AD.

FOR FURTHER INFORMATION CONTACT: Anthony Flores, Aerospace Engineer, FAA, Wichita Aircraft Certification Office, 1801 Airport Road, Wichita, Kansas 67209; telephone: (316) 946-4174; facsimile: (316) 946-4107.

SUPPLEMENTARY INFORMATION:

Discussion

On December 4, 2006, we issued a proposal to amend part 39 of the Federal Aviation Regulations (14 CFR part 39) to include an AD that would apply to certain RAC Models 33, 35, 36, 45, and 95 series airplanes. This proposal was published in the Federal Register as a notice of proposed rulemaking (NPRM) on December 11, 2006 (71 FR 71494). The NPRM proposed to retain all the actions of AD 72-22-01, add those Model 95-B55B (T-42A) airplanes to the applicability of the proposed AD, and list the specific serial numbers.

Comments

We provided the public the opportunity to participate in developing this AD. The following presents the comments received on the proposal and FAA's response to each comment:

Comment Issue No. 1: Change Compliance Time for AD 72-22-01

Kenneth R. Pearce, Pearce Aircraft Services, Inc, writes that AD 72-22-01, which requires compliance within 300 hours time-in-service (TIS), should be changed to 100 hours TIS or the next annual inspection, whichever comes last. The 300-hour limit casts doubt on the urgent need for a flight safety action.

The FAA has reviewed and considered the commenter's comments and does not agree. The purpose of the proposed AD is not to change the requirements of AD 72-22-01, but to add another model to the applicability list. Service history has shown that the 300-hour inspection is adequate to remove the unsafe condition. Therefore, the FAA will maintain the current requirements from the NPRM.

We are not changing the final rule AD action based on this comment.

Comment Issue No. 2: No Need for the Required Recurring 100-Hour TIS Lubrication

Kenneth R. Pearce also writes that there is no need for the AD to require the recurring 100-hour TIS lubrication. He explains that maintenance of the uplock roller is thoroughly documented in the airplane maintenance manuals (AMMs), the 100-hour TIS/annual inspection checklist does list lubrication as required following the AMMs, and the Pilots Operating Handbook/FAA-approved Airplane Flight Manual directs checking the uplock roller for free rotation before flight.

In addition, Pearce also notes that the landing gear system is a complex assembly that is totally dependent on exacting adjustment of several switches, adjustment of actuator rods, strength of springs, and timely lubrication of all grease fittings with appropriate lubricants. If the maintenance is proper, the rollers will not restrict the landing gear movement because they touch the uplock block only in severe turbulence.

The FAA has reviewed and considered the commenter's comments and does not agree. The purpose of the proposed AD is not to change the requirements of AD 72-22-01, but to add another model to the applicability list. The commenter concurs with the proposed AD to include the model 95-B55B (T-42A) airplane. At the time of AD 72-22-01, it was necessary to address these repetitive lubrications through AD action. If a maintenance manual is revised to add procedures, that does not eliminate the need for the AD since the only way to ensure that all revised maintenance procedures are incorporated is through an AD. We have determined that the 100-hour TIS repetitive lubrication requirement is still necessary to address the unsafe condition.

We are not changing the final rule AD action based on this comment.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 9,714 airplanes in the U.S. registry, including those airplanes affected by AD 72-22-01.

We estimate the following costs to do the actions to determine if each uplock roller is of the greasible type (one having a drilled and grooved inner race), replace any nongreasible uplock roller (one having a solid inner race) with the greasible type before further flight, install hollow zerk-ended mounting bolts on the uplock rollers, and initially lubricate the uplock mechanism:

Labor cost | Parts cost | Total cost per airplane | Total cost on U.S. operators
2 work-hours × $80 per hour = $160 | $30 | $190 | $1,845,660

We estimate the following costs for each lubrication of the uplock mechanism:

Labor cost | Parts cost | Total cost per airplane | Total cost on U.S. operators
1 work-hour × $80 per hour = $80 | None | $80 | $777,120

The estimated total cost on U.S. operators includes the cumulative costs associated with those airplanes affected by AD 72-22-01 and those airplanes being added in this AD.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-26075; Directorate Identifier 2006-CE-55-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing AD 72-22-01, Amendment 39-1544, and adding a new AD to read as follows:

2007-08-08 Raytheon Aircraft Company (The Beech Aircraft Company and BEECH previously held Type Certificate Nos. 3A15, 3A16, 5A3, and A-777): Amendment 39-15025; Docket No. FAA-2006-26075; Directorate Identifier 2006-CE-55-AD.

Effective Date

(a) This AD becomes effective on May 25, 2007.

Affected ADs

(b) This AD supersedes AD 72-22-01, Amendment 39-1544.

Applicability

(c) This AD applies to the following airplane models and serial numbers (SNs) that are certificated in any category:

(1) Group 1 (maintains the actions from AD 72-22-01):

Model | SNs
(i) 35-33, 35-A33, 35-B33, 35-C33, E33, F33, and G33 | CD-1 through CD-1256.
(ii) 35-C33A, E33A, and F33A | CE-1 through CE-349.
(iii) E33C and F33C | CJ-1 through CJ-30.
(iv) 35, A35, B35, C35, D35, E35, F35, G35, H35, J35, K35, M35, N35, P35, S35, V35, V35A, and V35B | D-1 through D-9287.
(v) 36 and A36 | E1 through E-283.
(vi) A45 (T-34A, B45) and D45 (T-34B) | All.
(vii) 95-55, 95-A55, 95-B55, and 95-B55A | TC-1 through TC-1402.
(viii) 95-C55, 95-C55A, D55, D55A, E55, and E55A | TE-1 through TE-846.
(ix) 56TC and A56TC | TG-1 through TG-94.
(x) 58 | TH-1 through TH-174.
(xi) 95, B95, B95A, D95A, and E95 | TD-2 through TD-721.

(2) Group 2: Model 95-B55B (T-42A) airplanes, SNs TF-1 through TF-70.

Unsafe Condition

(d) This AD results from a recent incident involving a Raytheon Aircraft Company (RAC) Model 95-B55B (T-42A) airplane where a seizure of the uplock rollers occurred. We are issuing this AD to decrease the possibility of gear-up landings caused by seizure of the uplock rollers.

Compliance

(e) To address this problem, you must do the following, unless already done:

Actions | Compliance | Procedures
(1) Determine if each uplock roller is of the greasible type (one having a drilled and grooved inner race) | (i) For Group 1 airplanes: Within 300 hours time-in-service (TIS) after October 25, 1972 (the effective date of AD 72-22-01) | Follow Beechcraft Service Instructions No. 0448-211, Rev. I (undated), or Beechcraft Service Instructions No. 0448-211 (undated).
| (ii) For Group 2 airplanes: Within 300 hours TIS after May 25, 2007 (the effective date of this AD).
(2) Replace any nongreasible uplock roller (one having a solid inner race) with the greasible type | (i) For Group 1 airplanes: Before further flight after the determination required by paragraph (e)(1)(i) of this AD (ii) For Group 2 airplanes: Before further flight after the determination required by paragraph (e)(1)(ii) of this AD. | Follow Beechcraft Service Instructions No. 0448-211, Rev. I (undated), or Beechcraft Service Instructions No. 0448-211 (undated).
(3) Install hollow zerk-ended mounting bolts on the uplock rollers | (i) For Group 1 airplanes: Within 300 hours TIS after October 25, 1972 (the effective date of AD 72-22-01) (ii) For Group 2 airplanes: Within 300 hours TIS after May 25, 2007 (the effective date of this AD). | Follow Beechcraft Service Instructions No. 0448-211, Rev. I (undated), or Beechcraft Service Instructions No. 0448-211 (undated).
(4) Lubricate the uplock mechanism | (i) For Group 1 airplanes: Initially within 300 hours TIS after October 25, 1972 (the effective date of AD 72-22-01). Repetitively lubricate thereafter at intervals not to exceed 100 hours TIS | Follow Beechcraft Service Instructions No. 0448-211, Rev. I (undated), or Beechcraft Service Instructions No. 0448-211 (undated).
| (ii) For Group 2 airplanes: Initially within 300 hours TIS after May 25, 2007 the effective date of this AD. Repetitively lubricate thereafter at intervals not to exceed 100 hours TIS.

Alternative Methods of Compliance (AMOCs)

(f) The Manager, Wichita Aircraft Certification Office, FAA, ATTN: Anthony Flores, Aerospace Engineer, 1801 Airport Road, Wichita, Kansas 67209; telephone: (316) 946-4174; facsimile: (316) 946-4107, has the authority to approve AMOCs for this AD, if requested using the procedures found in 14 CFR 39.19.

(g) AMOCs approved for AD 72-22-01 are approved for this AD.

Material Incorporated by Reference

(h) You must use Beechcraft Service Instructions No. 0448-211, Rev. I (undated), or Beechcraft Service Instructions No. 0448-211 (undated), to do the actions required by this AD, unless the AD specifies otherwise.

(1) The Director of the Federal Register approved the incorporation by reference of Beechcraft Service Instructions No. 0448-211 (undated), and Beechcraft Service Instructions No. 0448-211, Rev. I (undated), under 5 U.S.C. 552(a) and 1 CFR part 51.

(2) For service information identified in this AD, contact Raytheon Aircraft Company, P.O. Box 85, Wichita, Kansas 67201-0085; telephone: (800) 429-5372 or (316) 676-3140.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on April 6, 2007.
Kim Smith,
Manager, Small Airplane Directorate, Aircraft Certification Service.

[FR Doc. E7-7048 Filed 4-19-07; 8:45 am]

BILLING CODE 4910-13-P